DEPARTMENT OF AGRICULTURE

Forest Service

Olympic Provincial Advisory Committee

AGENCY: Forest Service, USDA.

ACTION: Notice of meeting.

SUMMARY: The Olympic Province Advisory Committee (OPAC) will meet on Friday, May 19th, 2006. The meeting will be held at the North Olympic Learning Center, 201 W. Patison Street, Port Hadlock, Washington. The meeting will begin at 9:30 a.m. and end at approximately 3 p.m. Agenda topics will include: Skokomish Waterhshed Action Team Update; Sustainable Vegetation Management of Under-story/Research Results; Geospatial Overview of the Pacific Northwest and Relevance to the Olympic National Forest; Project Updates and Open Forum. All Olympic Province Advisory Committee Meetings are open to the public. Interested citizens are encouraged to attend. FOR FURTHER INFORMATION CONTACT: Karl Denison, Province Liaison, USDA, Olympic National Forest Headquarters, 1835 Black Lake Blvd. Olympia, WA 98512 (360) 956-2306.

Dated: April 25, 2006.
Dale Hom,
Forest Supervisor, Olympic National Forest.

[FR Doc. 06-4094 Filed 5-1-06; 8:45 am]

BILLING CODE 3410-11-M